DEPARTMENT OF THE INTERIOR

National Park Service

General Management Plan, John Day Fossil Beds National Monument, Grant and Wheeler Counties, OR; Notice of Intent To Prepare an Environmental Impact Statement

SUMMARY: Pursuant to the National Environmental Policy Act of 1969, 42 U.S.C. 4332(C), the National Park Service is initiating the conservation planning and environmental impact analysis process necessary to prepare a General Management Plan (GMP) for John Day Fossil Beds National Monument, Oregon. The new GMP will establish the overall direction for the monument, setting broad management goals for managing the area over the next 15 to 20 years. The GMP will prescribe desired resource conditions and visitor experiences that are to be achieved and maintained throughout the monument based on such factors as the monument's purpose and significance, special mandates, the body of laws and policies directing park management, resource analysis, and the range of public expectations and concerns. The GMP also will outline the kinds of resource management activities, visitor activities, and developments that would be appropriate in the monument in the future.

A range of reasonable alternatives for managing John Day Fossil Beds will be developed through this planning process and will include, at a minimum, a no-action and a preferred alternative (from among the alternatives to be analyzed in full, an “environmentally preferred” alternative will also be identified). At this point in time, major issues which are anticipated to be addressed in preparing the environmental impact statement (EIS) and GMP will include protection of resources; changes in visitor use patterns; adequacy and sustainability of existing visitor facilities; appropriate use of monument lands and ease and type of access; adequacy of the monument boundaries for protecting paleontological resources, and appropriate uses and development in the Cant Ranch National Historic District. The EIS will also evaluate the potential environmental consequences of the alternative management approaches, as well as identify suitable mitigation strategies to avoid or minimize potential impacts. As the first phase of the planning process, the National Park Service is beginning to scope the issues to be addressed in the Draft EIS/GMP. All interested persons, organizations, and agencies are encouraged to submit comments and suggestions on issues and concerns that should be addressed, and the range of appropriate alternatives that should be examined.

DATES: The National Park Service is now initiating public scoping. This fall a scoping newsletter will be distributed to state and federal agencies; associated American Indian tribes; neighboring communities; county commissioners; local organizations, researchers and institutions; the congressional delegation; and other interested members of the public. In addition, the National Park Service will hold public scoping meetings regarding the general management plan in the fall or early winter. At this time, two public open houses are expected to be hosted in early December 2004, in John Day and Fossil, Oregon. Specific dates, times, and locations will be announced in the local media, on the Internet at http://www.nps.gov/joda, and will also be available by contacting the Superintendent. In addition to attending the scoping meetings, people wishing to provide information to be considered in developing the Draft EIS/GMP may mail or e-mail comments to the monument's Superintendent at the address below.

FOR FURTHER INFORMATION CONTACT: James Hammett, Superintendent, at the address noted, or via telephone at (514) 987-2333. General park information requests, or requests to be added to the project mailing list, should be directed to: Superintendent, John Day Fossil Beds National Monument, 32651 Highway 19, Kimberly, OR 97848 (or via E-mail: JODA_Superintendent@nps.gov). General information about John Day Fossil Beds National Monument is also available on the Internet at <http://www.nps.gov/joda>.

SUPPLEMENTARY INFORMATION: Interested individuals and organizations are encouraged to provide relevant information or comments on any issues or concerns which should be addressed in the new GMP. Respondents may submit comments by any one of several methods: (1) Mail written comments to Superintendent, John Day Fossil Beds National Monument, 32651 Highway 19, Kimberly, OR 97848; (2) respond via the Internet to JODA_Superintendent@nps.gov (please submit Internet comments as a text file avoiding the use of special characters and any form of encryption. Be sure to include name and return street address in all Internet messages. If confirmation of receipt of electronic comments is not received for some reason, respondents may contact the planning staff directly at John Day Fossil Beds National Monument); and (3) written comments may be hand-delivered to monument headquarters at 32651 Highway 19, Kimberly, OR 97848.

All written comments must be postmarked, transmitted, or delivered not later than January 15, 2005. Please note that names and addresses of respondents providing comments become part of the public record. If individuals commenting request that their name or/and address be withheld from public disclosure, it will be honored to the extent allowable by law. Such requests must be stated prominently in the beginning of the comments. There also may be circumstances wherein the NPS will withhold from the record a respondent's identity, as allowable by law. As always: the NPS will make available to public inspection all submissions from organizations or businesses and from persons identifying themselves as representatives or officials of organizations and businesses; and, anonymous comments may not be considered.

Decision Process: It is currently anticipated that following careful consideration of comments received in regards to the Draft EIS/GMP, that the Final EIS/GMP would be released in fall-winter 2007. As delegated EIS, the final plan and record of decision is to be approved by the Director, Pacific West Region (anticipated to occur in summer 2008). Subsequently the official responsible for implementing the selected plan will be the Superintendent, John Day Fossil Beds National Monument.

Dated: August 11, 2004.
George J. Turnbull,
Acting Regional Director, Pacific West Region.

[FR Doc. 04-21471 Filed 9-23-04; 8:45 am]

BILLING CODE 4312-52-P